DEPARTMENT OF HOMELAND SECURITY

Federal Emergency Management Agency

[FEMA-1766-DR]

Indiana; Amendment No. 15 to Notice of a Major Disaster Declaration

AGENCY: Federal Emergency Management Agency, DHS.

ACTION: Notice.

SUMMARY: This notice amends the notice of a major disaster declaration for the State of Indiana (FEMA-1766-DR), dated June 8, 2008, and related determinations.

DATES: Effective Date: July 29, 2008.

FOR FURTHER INFORMATION CONTACT: Peggy Miller, Disaster Assistance Directorate, Federal Emergency Management Agency, 500 C Street, SW., Washington, DC 20472, (202) 646-3886.

SUPPLEMENTARY INFORMATION: Notice is hereby given that pursuant to the President's June 30, 2008, amended declaration authorizing Federal funds for emergency protective measures, including direct Federal assistance, at 90 percent Federal funding of total eligible costs under the Public Assistance program, the National Oceanic and Atmospheric Administration's National Weather Service River Forecast Center has established that the rivers in the State of Indiana, which have experienced historical flooding, fell below flood stage on June 23, 2008.

(The following Catalog of Federal Domestic Assistance Numbers (CFDA) are to be used for reporting and drawing funds: 97.030, Community Disaster Loans; 97.031, Cora Brown Fund; 97.032, Crisis Counseling; 97.033, Disaster Legal Services; 97.034, Disaster Unemployment Assistance (DUA); 97.046, Fire Management Assistance Grant; 97.048, Disaster Housing Assistance to Individuals and Households in Presidential Declared Disaster Areas; 97.049, Presidential Declared Disaster Assistance—Disaster Housing Operations for Individuals and Households; 97.050, Presidential Declared Disaster Assistance to Individuals and Households—Other Needs; 97.036, Disaster Grants—Public Assistance (Presidentially Declared Disasters); 97.039, Hazard Mitigation Grant.)

R. David Paulison,
Administrator, Federal Emergency Management Agency.

[FR Doc. E8-18432 Filed 8-8-08; 8:45 am]

BILLING CODE 9110-10-P